DEPARTMENT OF DEFENSE

Department of the Navy

Record of Decision for the Final Supplemental Environmental Impact Statement for Guam and Commonwealth of the Northern Mariana Islands Military Relocation

AGENCY: Department of the Navy, DoD.

ACTION: Notice.

SUMMARY: The Department of the Navy (DON), after carefully considering the environmental consequences of the proposed action, as well as strategic, operational, and training requirements, obligations under treaties and other international agreements, and cost, announces its decision to construct and operate a main base (cantonment area), a family housing area, a live-fire training range complex (LFTRC), and associated infrastructure on Guam to support the relocation of a substantially reduced number of Marines and dependents than previously analyzed in a 2010 Final Environmental Impact Statement (EIS) (Guam and Commonwealth of the Northern Mariana Islands (CNMI) Military Relocation; Relocating Marines from Okinawa, Visiting Aircraft Carrier Berthing, and Army Air and Missile Defense Task Force).

The proposed action will be accomplished as set out in Alternatives E and 5 as identified in the 2015 Final Supplemental Environmental Impact Statement (SEIS) as the preferred alternatives. Alternatives E and 5 consist of a cantonment at Naval Computer and Telecommunications Station Finegayan (Finegayan) and family housing at Andersen Air Force Base (AAFB), and a LFTRC at AAFB-Northwest Field (NWF). The LFTRC also includes a stand-alone hand grenade range at Andersen South. Under these selected alternatives, the DON will be able to meet current and future DON and Department of Defense (DoD) training and operational requirements.

The Record of Decision (ROD) documents why the DoD has chosen to implement the preferred alternatives as described in the 2015 Final SEIS. The ROD includes descriptions and discussions of the anticipated environmental impacts of the proposed action. It also includes descriptions and discussions of all related actions and their anticipated impacts.

FOR FURTHER INFORMATION CONTACT: Director, Joint Guam Program Office Forward, P.O. Box 153246, Santa Rita, Guam 96915.

SUPPLEMENTARY INFORMATION: The complete text of the ROD is available for public viewing at www.guambuildupeis.us. Hard copies of the ROD will be available at the following locations: University of Guam Robert F. Kennedy Memorial Library, Government Documents Tan Siu Lin Building, UOG Station, Mangilao, GU 96923 and Nieves M. Flores Memorial Library, 254 Martyr Street, Hagåtña, GU 96910.

Dated: September 9, 2015.
N.A. Hagerty-Ford,
Commander, Office of the Judge Advocate General, U.S. Navy, Administrative Law Division, Federal Register Liaison Officer.

[FR Doc. 2015-23244 Filed 9-16-15; 8:45 am]

BILLING CODE 3810-FF-P